DEPARTMENT OF THE INTERIOR

Bureau of Land Management

[AZ-910-0777-26-241A]

State of Arizona Resource Advisory Council Meeting

AGENCY: Bureau of Land Management, Interior.

ACTION: Arizona Resource Advisory Council meeting notice.

SUMMARY: This notice announces a meeting of the Arizona Resource Advisory Council (RAC).

The business meeting will be held on March 25, 2003, at Cochise College, 1025 State Route 90 in Benson, Arizona. It will begin at 9:30 a.m. and conclude at 5 p.m. The agenda items to be covered include: Review of the January 27, 2003, meeting minutes; BLM State Director's Update on Statewide Issues; Arizona Statewide Fire Plan Amendment and Planning Updates, BLM Safford's Grazing Monitoring Program, Off-Highway Vehicle “Decision Tree” Concept, status of the San Pedro Grazing Moratorium, RAC Questions on Written Reports from BLM Field Office Managers; Update Proposed Field Office Rangeland Resource Teams, Reports by the Standards and Guidances, Recreation, Public Relations, Land Use Planning, Wild Horse and Burro Working Groups; Reports from RAC members; and Discussion of future meetings. A public comment period will be provided at 11:30 a.m. on March 25, for any interested publics who wish to address the Council.

FOR FURTHER INFORMATION CONTACT: Deborah Stevens, Bureau of Land Management, Arizona State Office, 222 North Central Avenue, Phoenix, Arizona 85004-2203, (602) 417-9215.

Michael Taylor,
Acting Arizona State Director.

[FR Doc. 03-4961 Filed 3-3-03; 8:45 am]

BILLING CODE 4310-32-M